NATIONAL WOMEN'S BUSINESS COUNCIL

Sunshine Act Meeting

AGENCY: National Women's Business Council.

ACTION: Notice of meeting.

SUMMARY: In accordance with the Women's Business Ownership Act, Public Law 105-135 as amended, the National Women's Business Council (NWBC) announces a forthcoming Council meeting and joint meeting of the NWBC and Interagency Committee on Women's Business Enterprise. The meetings will cover action items worked on by the National Women's Business Council and the Interagency Committee on Women's Business Enterprise included but not limited to procurement, access to capital and training.

DATE: October 4, 2000.

ADDRESS: Joint Meeting.

The White House/Eisenhower Executive Office Building/Indian Treaty Room (17th & Penn. Entrance) Washington, DC, 9 am to 11:30 am.

Note: No admittance without prior official clearance. Please have a photo ID.

ADDRESS: Council Meeting.

The JW Marriott Hotel/Russell-Hart Room, 1331 Pennsylvania Avenue, NW, Washington, DC, 2:30 am to 5:30 pm.

STATUS: Open to the public.

CONTACT: National Women's Business Council, 409 Third Street, SW, Suite 210, Washington, DC 20024, (202) 205-3850.

Note: Please call by September 22, 2000.

Gilda Presley,
Administrative Officer, National Women's Business Council.

[FR Doc. 00-23917 Filed 9-13-00; 2:21 pm]

BILLING CODE 6820-AB-M